DEPARTMENT OF COMMERCE

National Oceanic and Atmospheric Administration

50 CFR Parts 216 and 218

RIN 0648-BC52

Takes of Marine Mammals Incidental to Specified Activities; U.S. Navy Training and Testing Activities in the Hawaii-Southern California Training and Testing Study Area; Correction

ACTION: Final rule; correction.

SUMMARY: This document contains corrections to the preamble to final regulations published on December 24, 2013, governing the take of marine mammals incidental to U.S. Navy (Navy) training and testing activities in the Hawaii-Southern California Training and Testing (HSTT) Study Area. This action is necessary to correct an error in the description of total Level B harassment of Eastern North Pacific gray whales.

DATES: Effective on May 7, 2014.

FOR FURTHER INFORMATION CONTACT: Michelle Magliocca, 301-427-8401.

SUPPLEMENTARY INFORMATION:

Background

A final rule published December 24, 2013 (78 FR 78106) for the take of marine mammals incidental to the Navy's training and testing activities in the HSTT Study Area. This correction revises the description contained in the preamble of the number of Eastern North Pacific gray whales authorized to be taken by Level B harassment.

Need for Correction

As published, the preamble to the final regulations contains errors which may prove to be misleading and need to be clarified. These typos were correctly recorded in the regulatory text and do not change NMFS' analysis or conclusions in the final rule. Revised Letters of Authorization have been issued to the Navy, eliminating the 10 authorized Level A takes (training) and 5 authorized Level A takes (testing) of Eastern North Pacific gray whales over a 5-year period. In addition, the revised Letter of Authorization for testing activities corrects the number of blue whale takes to “up to 428 per year” (previously 426).

1. On page 78143, in Table 18, the entry for Eastern North Pacific gray whales is corrected to read as follows:

Table 18—Species-Specific Take Request and Authorization From Modeling Estimates of Impulsive and Non-Impulsive Source Effects for All Training Activities
Species | Stock | Annually ¹: Level B | Annually ¹: Level A | Annually ¹: Mortality | Total over 5-year rule ²: Level B | Total over 5-year rule ²: Level A | Total over 5-year rule ²: Mortality
* * * * * * *
Gray whale | Eastern North Pacific | 9,550 | 0 | 0 | 47,750 | 0 | 0
* * * * * * *
¹ These numbers constitute the total for an annual maximum year (a notional 12-month period when all annual and non-annual events could occur) in which a RIMPAC exercise and Civilian Port Defense events would occur in Hawaii and SOCAL.
² These numbers constitute the summation over a 5-year period with annual events occurring five times and non-annual events occurring three times.

2. On page 78145, in Table 20, the entry for Eastern North Pacific gray whales is corrected to read as follows:

Table 20—Species-Specific Takes Requested and Authorized From Modeling Estimates of Impulsive and Non-Impulsive Source Effects for All Testing Activities
Species | Stock | Annually ¹: Level B | Annually ¹: Level A | Annually ¹: Mortality | Total over 5-year rule ²: Level B | Total over 5-year rule ²: Level A | Total over 5-year rule ²: Mortality
* * * * * * *
Gray whale | Eastern North Pacific | 2,568 | 0 | 0 | 12,840 | 0 | 0
* * * * * * *
¹ Mesoplodon spp. in SOCAL for the undifferentiated occurrence of five Mesoplodon species (M. carlhubbsi, M. ginkgodens, M. perrini, M. peruvianus, M. stejnegeri) but does not include Blainville's beaked whale listed separately above.
² No more than 76 of Hawaii Island stock, 57 of Kauai/Niihau stock, and 34 of Oahu/4-Islands stock may be taken during testing activities.

Dated: April 30, 2014.
Samuel D. Rauch III,
Deputy Assistant Administrator for Regulatory Programs, National Marine Fisheries Service.

[FR Doc. 2014-10528 Filed 5-6-14; 8:45 am]

BILLING CODE 3510-22-P